ENVIRONMENTAL PROTECTION AGENCY

[EPA-HQ-OW-2008-0719; FRL—9913-90-OW]

Agency Information Collection Activities; Proposed Collection; Comment Request; National Pollutant Discharge Elimination System (NPDES) Permits for Point Source Discharges From the Application of Pesticides to Waters of the United States; EPA ICR No. 2397.02, OMB Control No. 2040-0284

AGENCY: Environmental Protection Agency (EPA).

ACTION: Notice.

SUMMARY: In compliance with the Paperwork Reduction Act (PRA), this document announces that EPA is planning to submit a request to renew an existing approved Information Collection Request (ICR) to the Office of Management and Budget (OMB). This ICR is scheduled to expire on 11/30/2014. Before submitting the draft ICR to OMB for review and approval, EPA is soliciting comments on specific aspects of the proposed information collection as described below.

DATES: Additional comments may be submitted on or before September 15, 2014.

ADDRESSES: Submit your comments, identified by Docket ID No. EPA-HQ-OW-2008-0719, by one of the following methods:

• http://www.regulations.gov: Follow the online instructions for submitting comments.

• Email: ow-docket@epa.gov. (Identify Docket ID No. EPA-HQ-OW-2008-0719 in the subject line).

• Mail: Water Docket, Environmental Protection Agency, Mailcode: 28221T, ATTN: Docket ID #EPA-HQ-OW-2008-0719, 1200 Pennsylvania Ave. NW., Washington, DC 20460. Please include a total of three copies.

• Hand Delivery: EPA Docket Center, WJC West Building, Room 3334, 1301 Constitution Avenue NW., Washington, DC 20004. ATTN: Docket ID #EPA-HQ-OW-2008-0719. Such deliveries are only accepted during the Docket's normal hours of operation, and special arrangements should be made for deliveries of boxed information.

Instructions: Direct your comments identified by the Docket ID No. EPA-HQ-OW-2008-0719. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Amelia Letnes, State and Regional Branch, Water Permits Division, OWM Mail Code: 4203M, Environmental Protection Agency, 1200 Pennsylvania Ave. NW., Washington, DC 20460; telephone number: (202) 564-5627; email address: letnes.amelia@epa.gov.

SUPPLEMENTARY INFORMATION:

How can I access the docket and/or submit comments?

EPA has established a public docket for this draft ICR under Docket ID No. EPA-HQ-OW-2008-0719, which is available for online viewing at www.regulations.gov, or in person viewing at the Water Docket in the EPA Docket Center (EPA/DC), WJC West Building, Room 3334, 1301 Constitution Ave. NW., Washington, DC. The EPA/DC Public Reading Room is open from 8:30 a.m. to 4:30 p.m., Monday through Friday, excluding federal holidays. The telephone number for the Reading Room is 202-566-1744, and the telephone number for the Water Docket is 202-566-2426.

Use www.regulations.gov to obtain a copy of the draft collection of information, submit or view public comments, access the index listing of the contents of the docket, and to access those documents in the public docket that are aviilable electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the agency, including whether the information will have practical utility;

(ii) Evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Respondents/Affected Entities: Entities potentially covered by the general permits include but are not limited to the following NAICS (North American Industry Classification System) codes: 111 Crop Production; 113110 Timber Tract Operations; 113210 Forest Nurseries Gathering of Forest Products; 221310 Water Supply for Irrigation; 923120 Administration of Public Health Programs; 924110 Administration of Air and Water Resource and Solid Waste Management Programs; 924120 Administration of Conservation Programs; and 221 Utilities.

Title: National Pollutant Discharge Elimination System (NPDES) Permits for Point Source Discharges from the Application of Pesticides to Waters of the United States.

ICR numbers: EPA ICR No. 2397.02, OMB Control No. 2040-0284.

ICR Status: This ICR is currently scheduled to expire on 11/30/2014. An agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This draft ICR calculates the burden and costs associated with information collection and reporting activities from EPA and state NPDES general permits for point source discharges from the application of pesticides to waters of the United States. On November 27, 2006, EPA issued a final rule (hereinafter called the “2006 NPDES Pesticides Rule”) clarifying circumstances in which an NPDES permit was not required to apply pesticide to, or over, including near, waters of the U.S. On January 9, 2009, the Sixth Circuit Court vacated EPA's 2006 NPDES Pesticides Rule.

As a result of the Court's decision, beginning October 31, 2011 NPDES permits were required for discharges to waters of the U.S. from the application of biological pesticides and chemical pesticides that leave a residue. Regulations governing permit requirements for NPDES discharges are codified at 40 CFR parts 122. This draft ICR includes information submitted or recorded by permittees as well as information used primarily by permitting authorities. The permitting authority will use the information to assess permittee compliance and modify/add new permit requirements as appropriate. The estimated burden in this draft ICR is based on EPA's NPDES Pesticide General Permit (PGP).

Burden Statement: The annual public reporting and recordkeeping burden for this collection of information is estimated to average 0.7 hours per response. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The draft ICR provides a detailed explanation of the agency's estimate, which is only briefly summarized here:

Estimated total number of potential respondents: 365,047 (365,000 permittees, 47 permitting authorities [46 states and Virgin Islands]).

Frequency of response: varies from once, every 5 years, to occasionally as needed.

Estimated total number of responses: 1,283,531 (1,276,395 by permittees, 7,136 by permitting authorities [i.e., states, tribes, and territories]).

Estimated total average number of responses for each respondent: 3.5 (1,283,531 responses divided by 365,047 respondents).

Estimated total annual burden hours: 834,756 hours (828,141 hours for permittees and 6,615 hours for permitting authorities [i.e., states, tribes, and territories]).

Estimated total annual cost: $38,662,462 ($38,462,682 for permittees and $199,780 for permitting authorities), includes $0 annualized capital or O&M costs.

Are there changes in the estimates from the last approval?

There is a decrease of 12,896 hours in the total estimated respondent burden compared with that identified in the ICR currently approved by OMB. EPA expects that the 2016 PGP will be similar to the 2011 PGP. All of the decrease in burden is attributable to the shift from the 2011 PGP to the 2016 PGP in year 3 of this draft ICR when permittees renewing their coverage would not need to develop a new Pesticide Discharge Management Plan.

What is the next step in the process for this ICR?

EPA will consider the comments received on this notice and amend the draft ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this draft ICR or the approval process, please contact the technical person listed under FOR FURTHER INFORMATION CONTACT.

Dated: July 8, 2014.
Andrew D. Sawyers,
Director, Office of Wastewater Management.

[FR Doc. 2014-16737 Filed 7-15-14; 8:45 am]

BILLING CODE 6560-50-P